DEPARTMENT OF DEFENSE

Department of the Army

Army Science Board; Notice of Open Meeting

In accordance with section 10(a)(2) of the Federal Advisory Committee Act (Pub. L. 92-463), announcement is made of the following Committee Meeting:

Name of Committee: Army Science Board (ASB).

Date(s) of Meeting: April 18 & 19.

Time(s) of Meeting: 0800-1700, April 18, 2002, 0800-1700, April 19, 2002.

Place: Institute for Defense Analysis.

1. Agenda: The Operations and Training Panel, Army Science Board FY02 Summer Study on “Ensuring the Financial Viability of the Objective Force” is holding a meeting on 18 and 19 April. The meeting will be held at IDA—4850 Mark Center Drive. The meeting will begin at 0800 hours on the 18th and will end at approximately 1700 hours on the 19th. For further information, please contact Maj. Coll S. Haddon—757-878-4694 or email HaddonC@atsc.army.mil

Wayne Joyner,
Program Support Specialist, Army Science Board.

[FR Doc. 02-9578 Filed 4-17-02; 8:45 am]

BILLING CODE 3710-08-M